DEPARTMENT OF COMMERCE

International Trade Administration

[C-580-837]

Certain Cut-To-Length Carbon-Quality Steel Plate From the Republic of Korea: Final Results of Countervailing Duty Administrative Review; 2023

AGENCY: Enforcement and Compliance, International Trade Administration, Department of Commerce.

SUMMARY: The U.S. Department of Commerce (Commerce) determines that certain producers and exporters of certain cut-to-length carbon-quality steel plate (CTL plate) from the Republic of Korea (Korea) received countervailable subsidies during the period of review (POR) January 1, 2023, through December 31, 2023.

DATES: Applicable February 20, 2026.

FOR FURTHER INFORMATION CONTACT: Kristen Johnson or Elizabeth Talbot Russ, AD/CVD Operations, Office III, Enforcement and Compliance, International Trade Administration, U.S. Department of Commerce, 1401 Constitution Avenue NW, Washington, DC 20230; telephone: (202) 482-4793 or (202) 482-5516, respectively.

SUPPLEMENTARY INFORMATION:

Background

On June 12, 2025, Commerce published the Preliminary Results of this administrative review in the Federal Register and invited interested parties to comment.¹ On August 21, 2025, Commerce extended the deadline for issuing the final results by 60 days.²

¹ See Certain Cut-to-Length Carbon-Quality Steel Plate from the Republic of Korea: Preliminary Results and Partial Rescission of Countervailing Duty Administrative Review; 2023, 90 FR 24776 (June 12, 2025) (Preliminary Results), and accompanying Preliminary Decision Memorandum.

² See Memorandum, “Extension of Deadline for Final Results of Countervailing Duty Administrative Review; 2023,” dated August 21, 2025.

Due to the lapse in appropriations and Federal Government shutdown, on November 14, 2025, Commerce tolled all deadlines in administrative proceedings by 47 days.³ Additionally, due to a backlog of documents that were electronically filed via Enforcement and Compliance's Antidumping and Countervailing Duty Centralized Electronic Service System (ACCESS) during the Federal Government shutdown, on November 24, 2025, Commerce tolled all deadlines in administrative proceedings by an additional 21 days.⁴ Accordingly, the deadline for these final results is now February 17, 2026.

³ See Memorandum, “Deadlines Affected by the Shutdown of the Federal Government,” dated November 14, 2025.

⁴ See Memorandum, “Tolling of all Case Deadlines,” dated November 24, 2025.

For a complete description of the events that have occurred since the Preliminary Results, see the Issues and Decision Memorandum.⁵ A list of topics discussed in the Issues and Decision Memorandum is provided as an appendix to this notice. The Issues and Decision Memorandum is a public document and is on file electronically via ACCESS, which is available to registered users at https://access.trade.gov. In addition, a complete version of the Issues and Decision Memorandum can be accessed directly at https://access.trade.gov/public/FRNoticesListLayout.aspx.

⁵ See Memorandum, “Issues and Decision Memorandum for the Final Results of the Administrative Review of the Countervailing Duty Order on Certain Cut-To-Length Carbon-Quality Steel Plate from the Republic of Korea; 2023,” dated concurrently with, and hereby adopted by, this notice (Issues and Decision Memorandum).

Scope of the Order

The product covered by this Order is certain cut-to-length carbon-quality steel plate.⁶ For a complete description of the scope of this Order, see the Issues and Decision Memorandum.

⁶ See Notice of Amended Final Determination: Certain Cut-to-Length Carbon-Quality Steel Plate from India and the Republic of Korea; and Notice of Countervailing Duty Orders: Certain Cut-to-Length Carbon-Quality Steel Plate from France, India, Indonesia, Italy, and the Republic of Korea, 65 FR 6587 (February 10, 2000) (Order).

Methodology

Commerce conducted this administrative review in accordance with section 751(a)(1)(A) of the Tariff Act of 1930, as amended (the Act). For each of the subsidy programs found countervailable, we find that there is a subsidy, i.e., a government-provided financial contribution that gives rise to a benefit to the recipient, and that the subsidy is specific.⁷ The subsidy programs under review, and the issues raised in case and rebuttal briefs submitted by the interested parties, are discussed in the Issues and Decision Memorandum.

⁷ See sections 771(5)(B) and (D) of the Act regarding financial contribution; section 771(5)(E) of the Act regarding benefit; and section 771(5A) of the Act regarding specificity.

Changes Since the Preliminary Results

Based on minor corrections accepted at the verification of Hyundai Steel Company, we made certain changes to the company's calculations for these final results of review.

Final Results of Administrative Review

We determine that following total net countervailable subsidy rates exist for the period January 1, 2023, through December 31, 2023:

Producer/exporter | Subsidy rate (percent ad valorem)
Dongkuk Steel Mill Co., Ltd ⁸ | 2.21
Hyundai Steel Company ⁹ | 1.31

Disclosure

⁸ Commerce preliminarily finds the following company to be cross-owned with DSM: Dongkuk Holdings Co., Ltd.

⁹ Commerce preliminarily finds the following companies to be cross-owned with Hyundai Steel: Hyundai Green Power Co., Ltd., Hyundai IFC Co., Ltd., and Hyundai ITC Co., Ltd.

Because Commerce made certain changes to Hyundai Steel Company's calculations for these final results of review, we intend to disclose the company's final results calculations to interested parties within five days of the public announcement of these final results, or if there is no public announcement, within five days of the date of publication of this notice in the Federal Register, in accordance with 19 CFR 351.224(b). Commerce has not made any changes to the calculations or analysis performed for Dongkuk Steel Mill Co., Ltd. in these final results.

Assessment Rates

Pursuant to section 751(a)(2)(C) of the Act and 19 CFR 351.212(b)(2), Commerce has determined, and U.S. Customs and Border Protection (CBP) shall assess, countervailing duties on all appropriate entries of subject merchandise covered by this review for the above-listed companies at the applicable ad valorem assessment rates listed. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(2)(C) of the Act, Commerce intends to instruct CBP to collect cash deposits of estimated countervailing duties in the amounts shown for the companies subject to this review for shipments of subject merchandise entered, or withdrawn from warehouse, for consumption on or after the date of publication of the final results of this administrative review. For all non-reviewed companies, we will instruct CBP to continue to collect cash deposits of estimated countervailing duties at the most recent company-specific or all-others rate applicable to the company, as appropriate. These cash deposits, when imposed, shall remain in effect until further notice.

Administrative Protective Order (APO)

This notice also serves as a final reminder to parties subject to an APO of their responsibility concerning the return or destruction of proprietary information disclosed under APO in accordance with 19 CFR 351.305(a)(3). Timely written notification of the return or destruction of APO materials or conversion to judicial protective order is hereby requested. Failure to comply with the regulations and terms of an APO is a violation subject to sanction.

Notice to Interested Parties

These final results are issued and published in accordance with sections 751(a)(1) and 777(i)(1) of the Act, and 19 CFR 351.221(b)(5).

Dated: February 17, 2026.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Subsidies Valuation Information

V. Analysis of Programs

VI. Discussion of the Issues

Comment 1: Whether the Provision of Electricity Was Consistent with Market Principles During the POR

Comment 2: Whether to Modify the Benefit Calculation for the Provision of Electricity for Less Than Adequate Renumeration (LTAR) Program

Comment 3: Whether the Provision of Electricity for LTAR Program Is Specific

Comment 4: Whether the Provision of Korean Allocation Units (KAUs) Constitutes a Financial Contribution

Comment 5: Whether the Provision of KAUs Confers a Countervailable Benefit

Comment 6: Whether the Korea Emissions Trading System Program Is Specific

Comment 7: Whether Article 57-2 Constitutes a Countervailable Subsidy

Comment 8: Whether Hyundai IFC Co., Ltd.'s Subsidies Are Attributable to Hyundai Steel

Comment 9: Whether to Modify the Benchmark Interest Rate for Hyundai Steel's Export-Import Bank of Korea Export Growth Loan

Commet 10: Whether the Carbon-Neutral Facilities Grant Program Is a Countervailable Subsidy

Comment 11: Whether the Research and Development Grants Received Under the Industrial Technology and Innovation Promotion Act Are Countervailable

VII. Recommendation

[FR Doc. 2026-03418 Filed 2-19-26; 8:45 am]

BILLING CODE 3510-DS-P